DEPARTMENT OF COMMERCE

National Oceanic and Atmospheric Administration

[I.D. 050102F]

Magnuson-Stevens Act Provisions; Atlantic Highly Migratory Species; Exempted Fishing Permits

AGENCY: National Marine Fisheries Service (NMFS), National Oceanic and Atmospheric Administration (NOAA), Commerce.

ACTION: Issuance of Exempted Fishing Permits; request for comments.

SUMMARY: NMFS announces the receipt of requests for Exempted Fishing Permits (EFPs) for the retention of undersize swordfish bycatch for distribution at a charitable food kitchen, and for tuna purse seine vessels to begin fishing prior to the traditional start date in order to assist with scientific research. In addition, NMFS announces its intent to issue an EFP for longline fishing to take place within a closed area of the North Atlantic in order to assist with research addressing sea turtle bycatch in the fishery. NMFS invites comments from interested parties on potential concerns should these EFPs be issued.

DATES: Comments must be received at the appropriate address or fax number (see ADDRESSES) no later than 5 p.m. eastern standard time on May 29, 2002.

ADDRESSES: Send comments to Christopher Rogers, Chief, Highly Migratory Species Management Division (F/SF1), NMFS, 1315 East-West Highway, Silver Spring, MD 20910. Comments also may be sent via facsimile (fax) to (301)713-1917. Comments will not be accepted if submitted via e-mail or Internet.

FOR FURTHER INFORMATION CONTACT: Sari Kiraly, 301-713-2347; fax: 301-713-1917.

SUPPLEMENTARY INFORMATION: EFPs are requested and issued under the authority of the Magnuson-Stevens Fishery Conservation and Management Act (16 U.S.C. 1801 et seq.) and/or the Atlantic Tunas Convention Act (16 U.S.C. 971 et seq.). Regulations at 50 CFR 600.745 and 50 CFR 635.32 govern scientific research activity, exempted fishing, and exempted educational activity with respect to Atlantic HMS.

NMFS has received a request from Amazing Grace Church of Whaleyville, MD for an EFP to land swordfish below the allowable minimum size from two longline vessels operating out of Ocean City, MD for charitable donation at the church food kitchen. The requesters seek to land only those juvenile swordfish brought to the boat as dead bycatch. In addition, the requesters intend to assist NMFS with data collection on the distribution of juvenile swordfish.

The East Coast Tuna Association has requested an EFP for five tuna purse seine vessels to begin fishing their giant Atlantic bluefin tuna allocation on July 15, rather than the traditional start date of August 15. Beginning July 1 the vessels will facilitate research conducted by the New England Aquarium involving pop-up satellite tagging of bluefin tuna. The Aquarium’s costs of chartering the purse seine vessels can be reduced if the vessels are in a position to conduct commercial fishing for their bluefin allocation upon the completion of the research on July 15 rather than return to other fishing activity requiring either vessel fishing gear changes or vessel relocation.

In addition, NMFS intends to issue an EFP for contracted longline vessels fishing in the Northeast Distant Water closed area of the North Atlantic. Approximately eight to fifteen longline vessels, depending upon availability, will be fishing under an Endangered Species Act Section 10 permit in order to conduct an experiment to determine alternative fishing methods to reduce sea turtle bycatch in the fishery.

Authority: 16 U.S.C. 971 et seq.and 16 U.S.C. 1801 et seq.

Dated: May 9, 2002.
Virginia M. Fay,
Acting Director, Office of Sustainable Fisheries, National Marine Fisheries Service.

[FR Doc. 02-12166 Filed 5-14-02; 8:45 am]

BILLING CODE 3510-22-S